SMALL BUSINESS ADMINISTRATION

[Declaration of Disaster #P021]

State of Oregon

As a result of the President's major disaster declaration for Public Assistance on February 19, 2004, the U.S. Small Business Administration is activating its disaster loan program only for private non-profit organizations that provide essential services of a governmental nature. I find that Baker, Benton, Clackamas, Clatsop, Columbia, Deschutes, Douglas, Gilliam, Hood River, Jefferson, Lake, Lane, Lincoln, Linn, Malheur, Marion, Morrow, Multnomah, Polk, Sherman, Tillamook, Umatilla, Union, Wallowa, Wasco, and Yamhill Counties in the State of Oregon constitute a disaster area due to damages caused by severe winter storms occurring on December 26, 2003 and continuing through January 14, 2004. Applications for loans for physical damage as a result of this disaster may be filed until the close of business on April 19, 2004 at the address listed below or other locally announced locations: U.S. Small Business Administration, Disaster Area 4 Office, PO Box 419004, Sacramento, CA 95841-9004.

The interest rates are:

For physical damage | Percent
Non-Profit Organizations Without Credit Available Elsewhere | 2.900
Non-Profit Organizations With Credit Available Elsewhere | 4.875

The number assigned to this disaster for physical damage is P02111.

(Catalog of Federal Domestic Assistance Program Nos. 59008).
Dated: February 20, 2004.
Cheri L. Cannon,
Acting Associate Administrator for Disaster Assistance.

[FR Doc. 04-4410 Filed 2-27-04; 8:45 am]

BILLING CODE 8025-01-P